DEPARTMENT OF TRANSPORTATION

Federal Aviation Administration

[Docket No. FAA-2024-1395]

Notice of Availability of the Final Environmental Impact Statement and Record of Decision for SpaceX Starship-Super Heavy Vehicle at Launch Complex 39A at Kennedy Space Center in Merritt Island, Florida

AGENCY: Federal Aviation Administration (FAA), Department of Transportation (DOT).

ACTION: Notice of availability of the final EIS and record of decision (ROD).

SUMMARY: In accordance with the National Environmental Policy Act of 1969, as amended (NEPA) and FAA Order 1050.1F, Environmental Impacts: Policies and Procedures, the FAA is announcing the availability of the Final Environmental Impact Statement (EIS) and Record of Decision (ROD) for SpaceX Starship-Super Heavy vehicle at Launch Complex 39A (LC-39A) at Kennedy Space Center (KSC) in Merritt Island, Florida (Final EIS and ROD).

ADDRESSES: The Final EIS and ROD can be viewed on the project website at: https://www.faa.gov/space/stakeholder_engagement/spacex_starship_ksc.

SUPPLEMENTARY INFORMATION: The Final EIS analyzes the following information:

• Up to 44 Starship-Super Heavy launches per year;

• Up to 44 Super Heavy landings per year, to include landings at LC-39A, landing on a droneship in the Atlantic Ocean, or expending in the Atlantic Ocean;

• Up to 44 Starship landings per year, to include landings at LC-39A, landing on a droneship in the Atlantic Ocean, or soft-water or hard-water landing with expending or recovery in the Atlantic Ocean, Pacific Ocean, or Indian Ocean;

• Construction of launch, landing, and other associated infrastructure at and in proximity to LC-39A.

The FAA released the Draft EIS on the project website on August 4, 2025. A Notice of Availability of the Draft EIS was published in the Federal Register on August 8, 2025, marking the beginning of the official public comment period under the National Environmental Policy Act. The FAA held two in-person public meetings on August 26, 2025, at Kennedy Space Center, FL; two in-person public meetings on August 28, 2025, in Cape Canaveral, Florida; and one virtual meeting on Wednesday, September 3, 2025. The public comment period closed on September 29, 2025. All comments received on the Draft EIS were considered in preparation of the Final EIS.

Dated: January 29, 2026.
Stacey Molinich Zee,
Manager, Operations Support Branch.

[FR Doc. 2026-02108 Filed 2-2-26; 8:45 am]

BILLING CODE 4910-13-P